DEPARTMENT OF TRANSPORTATION

Federal Aviation Administration

14 CFR Part 97

[Docket No. 31062; Amdt. No. 3683]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 29, 2016. The compliance date for each SIAP, associated Takeoff Minimums, and ODP is specified in the amendatory provisions.

The incorporation by reference of certain publications listed in the regulations is approved by the Director of the Federal Register as of February 29, 2016.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on February 12, 2016.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 31 MARCH 2016

Deadhorse, AK, Deadhorse, RNAV (RNP) Z RWY 5, Orig-C, CANCELED

Deadhorse, AK, Deadhorse, RNAV (RNP) Z RWY 23, Orig-C, CANCELED

Muscle Shoals, AL, Northwest Alabama Rgnl, VOR RWY 29, Amdt 27A, CANCELED

El Dorado, AR, South Arkansas Rgnl at Goodwin Field, VOR RWY 22, Amdt 13D, CANCELED

Washington, DC, Ronald Reagan Washington National, VOR RWY 15, Amdt 2 CANCELED

Washington, DC, Ronald Reagan Washington National, VOR RWY 19, Amdt 10, CANCELED

Washington, DC, Ronald Reagan Washington National, VOR/DME RWY 1, Amdt 14B, CANCELED

Charles City, IA, Northeast Iowa Rgnl, LOC RWY 12, Amdt 1

Charles City, IA, Northeast Iowa Rgnl, NDB RWY 12, Amdt 1, CANCELED

Charles City, IA, Northeast Iowa Rgnl, RNAV (GPS) RWY 12, Amdt 1

Charles City, IA, Northeast Iowa Rgnl, RNAV (GPS) RWY 30, Amdt 1

West Union, IA, George L Scott Muni, RNAV (GPS) RWY 17, Amdt 1

West Union, IA, George L Scott Muni, RNAV (GPS) RWY 35, Amdt 1

West Union, IA, George L Scott Muni, Takeoff Minimums and Obstacle DP, Amdt 3

Salmon, ID, Lemhi County, RNAV (GPS) RWY 17, Orig

Salmon, ID, Lemhi County, RNAV (GPS)-C, Orig-B, CANCELED

Salmon, ID, Lemhi County, RNAV (GPS)-D, Amdt 1

Salmon, ID, Lemhi County, VOR/DME-B, Amdt 1

Champaign/Urbana, IL, University of Illinois-Willard, RNAV (GPS) RWY 18, Orig-A, CANCELED

Champaign/Urbana, IL, University of Illinois-Willard, RNAV (GPS) RWY 36, Orig-B, CANCELED

Champaign/Urbana, IL, University of Illinois-Willard, VOR RWY 18, Orig-A, CANCELED

Indianapolis, IN, Eagle Creek Airpark, LOC RWY 21, Amdt 4

Indianapolis, IN, Eagle Creek Airpark, RNAV (GPS) RWY 21, Amdt 1

Indianapolis, IN, Greenwood Muni, Takeoff Minimums and Obstacle DP, Amdt 4A

Warsaw, IN, Warsaw Muni, VOR RWY 27, Amdt 7, CANCELED

Bedford, MA, Laurence G Hanscom Fld, NDB RWY 29, Amdt 8, CANCELED

Salisbury, MD, Salisbury-Ocean City Wicomico Rgnl, VOR RWY 23, Amdt 10A, CANCELED

Salisbury, MD, Salisbury-Ocean City Wicomico Rgnl, VOR RWY 32, Amdt 10, CANCELED

Escanaba, MI, Delta County, VOR RWY 9, Amdt 14B, CANCELED

Escanaba, MI, Delta County, VOR RWY 27, Amdt 12B, CANCELED

Manistee, MI, Manistee Co-Blacker, VOR RWY 28, Amdt 1B, CANCELED

Litchfield, MN, Litchfield Muni, VOR/DME RWY 13, Orig-B, CANCELED

Mankato, MN, Mankato Rgnl, VOR RWY 33, Amdt 8A, CANCELED

St James, MN, St James Muni, NDB RWY 33, Amdt 1B

St James, MN, St James Muni, RNAV (GPS) RWY 15, Amdt 1

St James, MN, St James Muni, RNAV (GPS) RWY 33, Amdt 1

Worthington, MN, Worthington Muni, VOR RWY 36, Amdt 6A, CANCELED

Brookfield, MO, North Central Missouri Rgnl, RNAV (GPS) RWY 18, Orig

Brookfield, MO, North Central Missouri Rgnl, RNAV (GPS) RWY 36, Amdt 2

Brookfield, MO, North Central Missouri Rgnl, Takeoff Minimums and Obstacle DP, Amdt 3

Greensboro, NC, Piedmont Triad Intl, ILS Y OR LOC/DME Y RWY 32, Orig

Greensboro, NC, Piedmont Triad Intl, ILS Z OR LOC/DME Z RWY 32, Orig

New Bern, NC, Coastal Carolina Regional, VOR RWY 4, Amdt 4B, CANCELED

Devils Lake, ND, Devils Lake Rgnl, VOR RWY 21, Orig-B, CANCELED

Mc Cook, NE, Mc Cook Ben Nelson Rgnl, VOR RWY 12, Amdt 12A, CANCELED

Mc Cook, NE, Mc Cook Ben Nelson Rgnl, VOR RWY 22, Amdt 4F, CANCELED

Ogallala, NE, Searle Field, VOR RWY 8, Amdt 6B, CANCELED

Ogallala, NE, Searle Field, VOR RWY 26, Amdt 6B, CANCELED

Ogallala, NE, Searle Field, VOR/DME RWY 8, Amdt 1B, CANCELED

Sidney, NE, Sidney Muni/Lloyd W Carr Field, VOR RWY 13, Amdt 7, CANCELED

Sidney, NE, Sidney, Muni/Lloyd W Carr Field, VOR RWY 31, Amdt 8, CANCELED

Readington, NJ, Solberg-Hunterdon, VOR-A, Amdt 9A, CANCELED

Farmington, NM, Four Corners Rgnl, VOR RWY 23, Orig, CANCELED

Farmington, NM, Four Corners Rgnl, VOR RWY 25, Amdt 10, CANCELED

Las Vegas, NM, Las Vegas Muni, VOR RWY 2, Amdt 11A, CANCELED

Lovelock, NV, Derby Field, VOR OR GPS-C, Orig-B, CANCELED

Binghamton, NY, Greater Binghamton/Edwin A Link Field, VOR RWY 10, Amdt 7, CANCELED

Ithaca, NY, Ithaca Tompkins Rgnl, VOR RWY 32, Amdt 2A, CANCELED

New York, NY, LaGuardia, VOR/DME-G, Amdt 2C, CANCELED

Rochester, NY, Greater Rochester Intl, VOR/DME RWY 4, Amdt 4A, CANCELED

Circleville, OH, Pickaway County Memorial, RNAV (GPS) RWY 1, Orig

Circleville, OH, Pickaway County Memorial, RNAV (GPS) RWY 19, Orig

Circleville, OH, Pickaway County Memorial, VOR RWY 19, Amdt 3

Newark, OH, Newark-Heath, NDB OR GPS RWY 9, Amdt 6A, CANCELED

Ada, OK, Ada Muni, VOR/DME-A, Orig-E, CANCELED

Cushing, OK, Cushing Muni, NDB RWY 36, Amdt 5, CANCELED

Norman, OK, University of Oklahoma Westheimer, NDB RWY 3, Amdt 1A, CANCELED

Norman, OK, University of Oklahoma Westheimer, NDB RWY 35, Orig-C, CANCELED

Stillwater, OK, Stillwater Rgnl, NDB RWY 17, Amdt 1A, CANCELED

North Bend, OR, Southwest Oregon Rgnl, NDB RWY 4, Amdt 6, CANCELED

Bloomsburg, PA, Bloomsburg Muni, RNAV (GPS)-B, Amdt 1

Bloomsburg, PA, Bloomsburg Muni, VOR-A, Amdt 1

Hartsville, SC, Hartsville Rgnl, NDB RWY 3, Amdt 1A, CANCELED

Mitchell, SD, Mitchell Muni, VOR RWY 31, Amdt 5A, CANCELED

Yankton, SD, Chan Gurney Muni, VOR RWY 31, Amdt 3B, CANCELED

Athens, TN, McMinn County, NDB RWY 20, Amdt 7A, CANCELED

Bowie, TX, Bowie Muni, NDB RWY 35, Amdt 4, CANCELED

Brownwood, TX, Brownwood Rgnl, VOR RWY 17, Amdt 11A, CANCELED

Dallas, TX, Dallas Love Field, Takeoff Minimums and Obstacle DP, Amdt 16A

Del Rio TX, Del Rio Intl, VOR/DME-B, Amdt 1, CANCELED

Houston, TX, William P Hobby, VOR/DME RWY 35, Amdt 3A, CANCELED

La Porte, TX, La Porte Muni, NDB RWY 30, Amdt 2A, CANCELED

Wendover, UT, Wendover, VOR/DME-B, Amdt 2

Lynchburg, VA, Lynchburg Rgnl/Preston Glenn Fld, VOR RWY 4, Amdt 12A, CANCELED

Melfa, VA, Accomack County, LOC RWY 3, Orig

Auburn, WA, Auburn Muni, BLAKO ONE, Graphic DP

Auburn, WA, Auburn Muni, Takeoff Minimums and Obstacle DP, Amdt 1

Kenosha, WI, Kenosha Rgnl, VOR RWY 15, Amdt 1, CANCELED

Milwaukee, WI, Lawrence J Timmerman, VOR RWY 15L, Amdt 14B, CANCELED

Martinsburg, WV, Eastern WV Rgnl/Shepherd Fld, Takeoff Minimums and Obstacle DP, Amdt 7

[FR Doc. 2016-04216 Filed 2-26-16; 8:45 am]

BILLING CODE 4910-13-P